DEPARTMENT OF THE INTERIOR

Bureau of Reclamation

Agency Information Collection; Activities Under OMB Review; Comment Request

AGENCY: Bureau of Reclamation, Interior.

ACTION: Notice of renewal of a currently approved collection (OMB No. 1006-0006).

SUMMARY: In accordance with the Paperwork Reduction Act of 1995 (44 U.S.C. 3501 et seq.), this notice announces the Bureau of Reclamation (we, our, or us) has forwarded the following Information Collection Request (ICR) to the Office of Management and Budget (OMB) for review and approval: Certification Summary Form, Reporting Summary Form for Acreage Limitation, 43 CFR part 426 and 43 CFR part 428, OMB Control Number: 1006-0006. This information collection is required under the Reclamation Reform Act of 1982 (RRA), Acreage Limitation Rules and Regulations, 43 CFR part 426, and Information Requirements for Certain Farm Operations In Excess of 960 Acres and the Eligibility of Certain Formerly Excess Land, 43 CFR part 428. The ICR describes the nature of the information collection and its expected cost and burden.

DATES: OMB has up to 60 days to approve or disapprove this information collection, but may respond after 30 days; therefore, public comments must be received on or before August 31, 2007 to assure maximum consideration.

ADDRESSES: You may send written comments to the Desk Officer for the Department of the Interior at the Office of Management and Budget, Office of Information and Regulatory Affairs, via facsimile to (202) 395-6566 or e-mail to OIRA_DOCKET@omb.eop.gov. A copy of your comments should also be directed to the Bureau of Reclamation, Attention: 84-53000, PO Box 25007, Denver, CO 80225-0007.

FOR FURTHER INFORMATION CONTACT: Stephanie McPhee at: (303) 445-2897.

SUPPLEMENTARY INFORMATION: Title: Certification Summary Form, Reporting Summary Form for Acreage Limitation, 43 CFR part 426 and 43 CFR part 428.

Abstract: These forms are to be used by district offices to summarize individual landholder (direct or indirect landowner or lessee) and farm operator certification and reporting forms as required by the RRA, 43 CFR part 426, and 43 CFR part 428. This information allows us to establish water user compliance with Federal reclamation law.

Changes to the RRA Forms and the Instructions to Those Forms

Minor editorial changes were made to the currently approved RRA forms and the instructions to those forms prior to the 60-day comment period initiated by the notice published in the Federal Register (72 FR 9966, Mar. 6, 2007). Those changes were designed to assist the respondents by increasing their understanding of the forms, clarifying the instructions for use when completing the forms, and clarifying the information that is required to be submitted to the districts with the forms. We received no public comments from the 60-day public comment period. The proposed revisions to the RRA forms will be included starting in the 2008 water year.

Frequency: Annually.

Respondents: Contracting entities that are subject to the acreage limitation provisions of Federal reclamation law.

Estimated Total Number of Respondents: 225.

Estimated Number of Responses per Respondent: 1.25.

Estimated Total Number of Annual Responses: 281.

Estimated Total Annual Burden on Respondents: 11,240 hours.

Estimate of Burden for Each Form:

Form No. | Estimated No. of respondents | Frequency of response | Total Annual responses | Burden hours per response | Total burden hours
7-21SUMM-C and tabulation sheets | 188 | 1.25 | 235 | 40 | 9,400
7-21SUMM-R and tabulation sheets | 37 | 1.25 | 46 | 40 | 1,840
Total | 225 | 1.25 | 281 |  | 11,240

Comments

Comments are invited on:

(a) Whether the proposed collection of information is necessary for the proper performance of our functions, including whether the information will have practical use;

(b) the accuracy of our burden estimate for the proposed collection of information;

(c) ways to enhance the quality, usefulness, and clarity of the information to be collected; and

(d) ways to minimize the burden of the collection of information on respondents, including the use of automated collection techniques or other forms of information technology.

An agency may not conduct or sponsor, and a person is not required to respond to a collection of information unless it displays a currently valid OMB control number. Reclamation will display a valid OMB control number on the RRA forms. A Federal Register notice with a 60-day comment period soliciting comments on this collection of information was published in the Federal Register (72 FR 9966, Mar. 6, 2007). No public comments were received.

OMB has up to 60 days to approve or disapprove this information collection, but may respond after 30 days; therefore, public comment should be submitted to OMB within 30 days in order to assure maximum consideration.

Before including your address, telephone number, e-mail address, or other personal identifying information in your comment, you should be aware that your entire comment—including your personal identifying information—may be made publicly available at any time. While you can ask us in your comment to withhold your personal identifying information from public review, we cannot guarantee that we will be able to do so.

Roseann Gonzales,
Director, Office of Program and Policy Services, Denver Office.

[FR Doc. E7-12717 Filed 6-29-07; 8:45 am]

BILLING CODE 4310-MN-P